OFFICE OF NATIONAL DRUG CONTROL POLICY

Renewal of Charter of Drug Free Communities Advisory Commission

AGENCY: Office of National Drug Control Policy.

ACTION: Notice of charter renewal.

SUMMARY: Pursuant to the Federal Advisory Committee Act, 5 U.S.C. App. 2 and 41 CFR 101-6.1013, the Office of National Drug Control Policy renewed the Charter of the Drug Free Communities Advisory Commission on May 3, 2001. The renewed charter is available for viewing through the Library of Congress and the United States General Services Administration.

FOR FURTHER INFORMATION CONTACT: Linda V. Priebe, (202) 395-6622, Office of National Drug Control Policy, Executive Office of the President, Washington, DC 20503.

Dated: May 9, 2001.
Linda V. Priebe,
Assistant General Counsel.

[FR Doc. 01-12343 Filed 5-15-01; 8:45 am]

BILLING CODE 3180-02-P